DEPARTMENT OF COMMERCE

National Oceanic and Atmospheric Administration

RIN: 0648-XR23

Gulf of Mexico Fishery Management Council; Public Scoping Hearings

AGENCY: National Marine Fisheries Service (NMFS), National Oceanic and Atmospheric Administration (NOAA), Commerce.

ACTION: Notice of public hearings.

SUMMARY: The Gulf of Mexico Fishery Management Council (Council) will convene Scoping Hearings on Spiny Lobster Amendment 10 (in Marathon and Key West, FL only), Generic ACL/AM Amendment and Amendments 18 and 20 to the Coastal Migratory Pelagics (CMP) Fishery Management Plan (FMP).

DATES: The scoping hearings will be held on September 21 through September 24, 2009 at nine locations throughout the Gulf of Mexico. For specific dates, times and subjects see SUPPLEMENTARY INFORMATION.

ADDRESSES: The public hearings will be held in the following locations: Madeira Beach, Marathon, Key West and Panama City, FL, Biloxi, MS, Houston and Corpus Christi, TX, Grand Isle, LA and Orange Beach, AL. For specific dates, times and subjects see SUPPLEMENTARY INFORMATION.

Council address: Gulf of Mexico Fishery Management Council, 2203 North Lois Avenue, Suite 1100, Tampa, FL 33607.

FOR FURTHER INFORMATION CONTACT: Dr. Carrie Simmons, Fishery Biologist; Gulf of Mexico Fishery Management Council; telephone: (813) 348-1630.

SUPPLEMENTARY INFORMATION: The Gulf of Mexico Fishery Management Council (Council) has scheduled nine scoping hearings on Spiny Lobster Amendment 10, Generic ACL/AM Amendment, and Amendments 18 and 20 to the Coastal Migratory Pelagics (CMP) Fishery Management Plan (FMP). In 2006 the Magnuson-Stevens Fishery Conservation and Management Act was reauthorized and included a number of changes to improve conservation of managed fishery resources. The goals require that conservation and management prevent overfishing while achieving, on a continuous basis optimum yield for each fishery in the United States. Therefore included in these changes are requirements for the Regional Councils to establish annual catch limits (ACLs) and accountability measures (AMs). Accountability measures are management controls to prevent the ACLs from being exceeded and to correct by either in-season or post-season monitoring if they occur. These measures must be implemented by 2010 for stocks experiencing overfishing and by 2011 for all others.

The Gulf Council and the South Atlantic Fishery Management Council are jointly developing two separate amendments to address the ACLs and AMs; the Spiny Lobster Amendment 10 and the CMP Amendments 18 and 20. These two joint amendments address several species within the jointly management FMP. For example, the Spiny Lobster Amendment 10 addresses ACLs and AMs for the following species: Caribbean spiny lobster, smoothtail spiny lobster, spotted spiny lobster, Spanish slipper lobster, and ridged slipper lobster. Whereas, the joint CMP FMP Amendments 18 and 20 address ACLs and AMs for the following species: king mackerel, Spanish mackerel, and cobia. The Generic ACL/AM Amendment addresses all other federally managed species in the Gulf of Mexico. There are several questions and issues in each amendment for discussion. The public is encouraged to attend and provide comments on these three amendments.

These public hearings will begin at 6 p.m. and conclude at the end of public testimony or no later than 9 p.m. at the following locations:

•Monday, September 21, 2009, Louisiana Wildlife & Fisheries Research Lab, 195 Ludwig Annex, Grand Isle, LA 70358, telephone: (985) 787-2163;

•Monday, September 21, 2009, Monroe County Harvey Government Center, 1200 Truman Avenue, Key West, FL 33040;

•Tuesday, September 22, 2009, Holiday Inn, 1102 S. Shoreline, Corpus Christi, TX 78401, telephone: (361) 883-5731;

•Tuesday, September 22, 2009, Banana Bay Resort, 4590 Overseas Highway, Marathon, FL 33050, telephone: (305) 743-3500;

•Tuesday, September 22, 2009, Best Western, 7921 Lamar Poole Road, Biloxi, MS 39532, telephone: (228) 875-7111;

•Wednesday, September 23, 2009, City of Orange Beach Parks & Recreation, 27235 Canal Road, Orange Beach, AL 36561, telephone: (251) 981-6028;

•Wednesday, September 23, 2009, SpringHill Suites, 7922 Mosley Road, Houston, TX 77061;

•Thursday, September 24, 2009, National Marine Fisheries Service, 3500 Delwood Beach Road, Panama City, FL 32408, telephone: (850) 234-6541;

This public hearing will begin at 6:30 p.m. and conclude at the end of public testimony or no later than 9:30 p.m. at the following location:

•Wednesday, September 23, 2009, City of Madeira Beach, 300 Municipal Drive, Madeira Beach, FL 33708, telephone: (727) 391-9951.

Copies of the Amendment can be obtained by calling the Council office at (813) 348-1630.Special Accommodations

These hearings are physically accessible to people with disabilities. Requests for sign language interpretation or other auxiliary aids should be directed to Tina O'Hern at the Council (see ADDRESSES) at least 5 working days prior to the meeting.

Dated: August 27, 2009.
Tracey L. Thompson,
Acting Director, Office of Sustainable Fisheries, National Marine Fisheries Service.

[FR Doc. E9-21009 Filed 8-31-09; 8:45 am]

BILLING CODE 3510-22-S